DEPARTMENT OF AGRICULTURE

Animal and Plant Health Inspection Service

[Docket No. APHIS-2022-0015]

Notice of Availability of Final Environmental Assessment and Finding of No Significant Impact for Release of Psyllaephagus euphyllurae for Biological Control of Olive Psyllid in the Contiguous United States

AGENCY: Animal and Plant Health Inspection Service, USDA.

ACTION: Notice of availability.

SUMMARY: We are advising the public that we have prepared a final environmental assessment and finding of no significant impact relative to permitting the release of the insect Psyllaephagus euphyllurae for biological control of olive psyllid (Euphyllura olivina) in the contiguous United States. Based on our finding of no significant impact, we have determined that an environmental impact statement need not be prepared.

FOR FURTHER INFORMATION CONTACT: Dr. Robert S. Pfannenstiel, Ph.D., Senior Entomologist, Biological Control, Pests, Pathogens and Biocontrol Permitting, Plant Health Programs, PPQ, APHIS, 4700 River Road, Unit 133, Riverdale, MD 20737-1231; (301) 851-2198; email: bob.pfannenstiel@usda.gov.

SUPPLEMENTARY INFORMATION: The Animal and Plant Health Inspection Service (APHIS) is issuing permits for the release of the insect Psyllaephagus euphyllurae in the contiguous United States for the biological control of olive psyllid (Euphyllura olivina).

The olive psyllid is native to southern Europe. It was first detected in North America in 2007. By the time this psyllid was found on olives in southern California, it was widespread in the region. This pest feeds exclusively on the flower blossoms and growing tissue of olives, causing reductions in fruit set, with reductions in fruit yield as high as 60 percent reported in some parts of the Mediterranean Basin.

Permitting the release of P. euphyllurae is necessary to reduce the severity of damage to olives from infestations of olive psyllid. P. euphyllurae is a small, stingless parasitoid wasp specific only to olive psyllid. The adult wasp lays an egg inside the olive psyllid. The egg hatches and consumes the olive psyllid host. The P. euphyllurae then goes into prolonged dormancy as a preadult in the host mummy's remains until the following spring. The wasp poses no risk to humans, livestock, or wildlife.

On March 31, 2022, we published in the Federal Register (87 FR 18764, Docket No. 2022-0015) a notice ¹ in which we announced the availability, for public review and comment, of an environmental assessment (EA) that examined the potential environmental impacts associated with the release of P. euphyllurae (Hymenoptera:Encyrtidae) in the contiguous United States for the biological control of olive psyllid (Euphyllura olivine, Hemiptera: Liviidae). Comments on the notice were required to be received on or before May 2, 2022. We received one comment on the EA by that date. It was in favor of the environmental release of P. euphyllurae.

¹ To view the notice, supporting documents, and the comment we received, go to http://www.regulations.gov and enter APHIS-2022-0015 in the Search field.

In this document, we are advising the public of our finding of no significant impact (FONSI) regarding the field release of the insect, P. euphyllurae, for biological control of olive psyllid in the contiguous United States. Our finding, which is based on the EA, reflects our determination that release of P. euphyllurae for the biological control of olive psyllid in the contiguous United States will not have a significant impact on the quality of the human environment. Based on this finding, we have issued a permit for the release of P. euphyllurae for the biological control of olive psyllid in the contiguous United States.

The final EA and FONSI may be viewed on the Regulations.gov website (see footnote 1). Copies of the final EA and FONSI are also available for public inspection at 1620 of the USDA South Building, 14th Street and Independence Avenue SW, Washington, DC. Normal reading room hours are 8 a.m. to 4:30 p.m., Monday through Friday, except holidays. Persons wishing to inspect copies are requested to call ahead on (202) 799-7039 to facilitate entry into the reading room. In addition, copies may be obtained by calling or writing to the individual listed under FOR FURTHER INFORMATION CONTACT.

The final EA and FONSI have been prepared in accordance with: (1) The National Environmental Policy Act of 1969 (NEPA), as amended (42 U.S.C. 4321 et seq.); (2) regulations of the Council on Environmental Quality for implementing the procedural provisions of NEPA (40 CFR parts 1500-1508); (3) U.S. Department of Agriculture regulations implementing NEPA (7 CFR part 1b); and (4) APHIS' NEPA Implementing Procedures (7 CFR part 372).

Done in Washington, DC, this 6th day of February 2024.
Michael Watson,
Administrator, Animal and Plant Health Inspection Service.

[FR Doc. 2024-03378 Filed 2-16-24; 8:45 am]

BILLING CODE 3410-34-P